DEPARTMENT OF ENERGY

Proposed Agency Information Collection

AGENCY: U.S. Department of Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before August 3, 2016. If you anticipate difficulty in submitting comments within that period, contact the person listed in ADDRESSES as soon as possible.

ADDRESSES: Written comments may be sent to: Kelly Yaker, National Renewable Energy Laboratory, Attn: Recipient's Name Mail Stop: RSF034, 15013 Denver West Parkway, Golden, CO 80401, or by fax at 303-630-2108, or by email at kelly.yaker@nrel.gov.

FOR FURTHER INFORMATION CONTACT: Requests for additional information or copies of the information collection instrument and instructions should be directed to: Brian Naughton, Sandia National Laboratories, 505-844-4033, bnaught@sandia.gov.

SUPPLEMENTARY INFORMATION: This information collection request contains: (1) OMB No. “New”; (2) Information Collection Request Title: Wind Technology to Market Industry Survey; (3) Type of Request: New collection; (4) Purpose: In an effort to improve technology transfer from the Department of Energy and the national labs, to the U.S. wind energy industry, this survey is necessary to collect data from industry members in order to identify:

• New and improved research capabilities and tools that would be valuable to the wind industry

• Opportunities for, and barriers to, national laboratory and industry collaboration on technology development and transfer in those high-value areas.

Currently, no such information is available to labs. The information collected in this survey will be published in a report and help to inform new possibilities for the national labs. (5) Annual Estimated Number of Respondents: 80; (6) Annual Estimated Number of Total Responses: 80; (7) Annual Estimated Number of Burden Hours: 19.5 Hours; (8) Annual Estimated Reporting and Recordkeeping Cost Burden: $200,000.

Statutory Authority: DOE Org. Act (42 U.S.C. 7373).

Issued in Washington, DC, on June 3, 2016.
José Zayas,
Office Director, Wind and Water Power Technologies Office.

[FR Doc. 2016-14168 Filed 6-14-16; 8:45 am]

BILLING CODE 6450-01-P